DEPARTMENT OF COMMERCE

National Oceanic and Atmospheric Administration

[I.D. 081400E]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 11-15, 2000. The Council meeting will begin on Tuesday, September 12, at 9 a.m., reconvening each day through Friday. All meetings are open to the public, except a closed session will be held from 8 a.m. until 9 a.m. on Tuesday, September 12 to address litigation and personnel matters. The Council will meet as late as necessary each day to complete its scheduled business.

ADDRESSES: The meetings and hearing will be held at the Red Lion Hotel Sacramento, 1401 Arden Way, Sacramento, CA 95815; telephone: (916) 922-8041.

Council address: Pacific Fishery Management Council, 2130 SW Fifth Avenue, Suite 224, Portland, OR 97201.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions

2. Council Member Appointments

3. Roll Call

4. Executive Director's Report

5. Status of Federal Regulation Implementation

6. Approve Agenda

7. Approve April and June 2000 Minutes

B. Marine Reserves

1. Marine Reserves Phase I Considerations Report

2. Marine Reserves Phase II Considerations

3. Marine Reserve Implementation

C. Habitat Issues

1. Endangered Species Act and Essential Fish Habitat Requirements in Regard to Klamath River Flows

2. Report of the Habitat Steering Group (HSG)

D. Pacific Halibut Management

1. Status of 2000 Fisheries

2. Status of Bycatch Estimate

3. Proposed Changes to the Catch Sharing Plan and Annual Regulations

E. Salmon Management

1. Sequence of Events and Status of Fisheries

2. Preliminary Report of the Oregon Coastal Natural Coho Work Group

3. Scientific and Statistical Committee Methodology Review Priorities

F. Administrative and Other Matters

1. Research and Data Needs

2. Status of Legislation

3. Proposed Change in Terms for Council Advisory Body Members

4. Appointments to Advisory Groups (Coastal Pelagic Species, Highly Migratory Species, and Salmon Technical Team)

5. Report of the Budget Committee

6. Council Workload Priorities

7. Draft Agenda for November 2000

G. Groundfish Management

1. Status of Federal Groundfish Activities

2. Groundfish Strategic Plan

3. Exempted Fishing Permit Applications

4. Rebuilding Programs for Canary Rockfish and Cowcod

5. New Stock Assessments for Lingcod and Pacific Ocean Perch

6. Preliminary Harvest Levels and Other Specifications for 2001

7. Sablefish Permit Stacking Concept

8. Permit Transfer Regulations

9. Stocks to be Assessed in 2001 and Agency Commitments

10. Proposed Management Measures for 2001

11. Status of Fisheries and Inseason Adjustments

H. Highly Migratory Species Management

Update on Fishery Management Plan (FMP) Development

I. Coastal Pelagic Species Management

Coastal Pelagic Species FMP Amendment 9: Bycatch, Squid Maximum Sustainable Yield, Tribal Fishing Rights

SCHEDULE OF MEETINGS
SUNDAY, SEPTEMBER 10, 2000 |  |
Groundfish Management Team | 1 p.m. | Shasta Room
Groundfish Advisory Subpanel | 1 p.m. | Sierra A Room
MONDAY, SEPTEMBER 11, 2000 |  |
Council Secretariat | 7 a.m. | California Room
Groundfish Management Team | 8 a.m. | Shasta Room
Scientific and Statistical Committee | 8 a.m. | Sierra B Room
Groundfish Advisory Subpanel | 8 a.m. | Sierra A Room
Habitat Steering Group | 9 a.m. | Oroville Room
Highly Migratory Species Advisory Subpanel | 1 p.m. | Klamath Room
Budget Committee | 2 p.m. | Almanor Room
Briefing on Stock Assessments | 2:30 p.m. | Sierra A Room
TUESDAY, SEPTEMBER 12, 2000 |  |
Council Secretariat | 7 a.m. | California Room
California State Delegation | 7 a.m. | Almanor Room
Oregon State Delegation | 7 a.m. | Sierra A Room
Washington State Delegation | 7 a.m. | Sierra B Room
Groundfish Advisory Subpanel | 8 a.m. | Sierra A Room
Scientific and Statistical Committee | 8 a.m. | Sierra B Room
Highly Migratory Species Advisory Subpanel | 8 a.m. | Klamath Room
Enforcement Consultants | 5:30 p.m. | Almanor Room
Groundfish Management Team | As Needed | Shasta Room
WEDNESDAY, SEPTEMBER 13, 2000 |  |
Council Secretariat | 7 a.m. | California Room
California State Delegation | 7 a.m. | Almanor Room
Oregon State Delegation | 7 a.m. | Sierra A Room
Washington State Delegation | 7 a.m. | Sierra B Room
Groundfish Advisory Subpanel | 8 a.m. | Sierra A Room
Salmon Technical Team, Scientific and Statistical Committee—Joint Workshop | 8 a.m. | Sierra B Room
Enforcement Consultants | As Needed | Almanor Room
Groundfish Management Team | As Needed | Shasta Room
THURSDAY, SEPTEMBER 14, 2000 |  |
Council Secretariat | 7 a.m. | California Room
California State Delegation | 7 a.m. | Almanor Room
Oregon State Delegation | 7 a.m. | Sierra A Room
Washington State Delegation | 7 a.m. | Sierra B Room
Coastal Pelagic Species Advisory Subpanel | 1 p.m. | Sierra B Room
Enforcement Consultants | As Needed necessary | Almanor Room
Groundfish Advisory Subpanel | As Needed Necessary | Sierra A Room
Groundfish Management Team | As Needed Necessary | Shasta Room
FRIDAY, SEPTEMBER 15, 2000 |  |
Council Secretariat | 7 a.m. | California Room
California State Delegation | 7 a.m. | Almanor Room
Oregon State Delegation | 7 a.m. | Sierra A Room
Washington State Delegation | 7 a.m. | Sierra B Room

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: August 16, 2000.
Richard W. Surdi,
Acting Director, Office of Sustainable Fisheries, National Marine Fisheries Service.

[FR Doc. 00-21370 Filed 8-21-00; 8:45 am]

BILLING CODE 3510-22-F